ENVIRONMENTAL PROTECTION AGENCY

40 CFR Part 52

[Region 7 Tracking No. MO 096-1096; FRL-6537-5]

Approval and Promulgation of Implementation Plans; State of Missouri; St. Louis Inspection and Maintenance (I/M) Program

AGENCY: Environmental Protection Agency (EPA).

ACTION: Proposed rule.

SUMMARY: EPA proposes to approve revisions to the air pollution control State Implementation Plan (SIP) submitted by the State of Missouri. The revised SIP pertains to the St. Louis vehicle I/M program. These revisions require the implementation of a motor vehicle I/M program containing many of the features of an enhanced I/M program in the St. Louis metropolitan area, i.e., Jefferson, St. Louis, and St. Charles counties and St. Louis City. This proposal is being published to meet EPA's statutory obligation under the Clean Air Act (CAA or the Act).

DATES: Comments must be received on or before March 20, 2000.

ADDRESSES: All comments should be addressed to Leland Daniels at the Region 7 address. Copies of the state submittal are available at the following addresses for inspection during normal business hours: Environmental Protection Agency, Region 7, Air Planning and Development Branch, 901 North 5th Street, Kansas City, Kansas 66101; and the Environmental Protection Agency, Air and Radiation Docket and Information Center, Air Docket (6102), 401 M Street, SW, Washington, DC 20460.

FOR FURTHER INFORMATION CONTACT: Lee Daniels at (913) 551-7651.

SUPPLEMENTARY INFORMATION:

I. What Is the Statutory Requirement?

The CAA, as amended in 1990, requires that certain ozone nonattainment areas adopt either “basic” or “enhanced” I/M programs, depending on the severity of the problem and the population of the area. An I/M program is a way to check whether the emission control system on a vehicle is working correctly and to repair those that are not. All new passenger cars and trucks sold in the United States must meet stringent pollution standards, but they can only retain this low pollution profile if the emission controls and the engine are functioning properly. I/M is designed to ensure that vehicles stay clean in actual customer use. Through periodic vehicle checks and required repairs for vehicles which fail the test, I/M encourages proper vehicle maintenance and discourages tampering with emission control devices.

Since the CAA's inception in 1970, Congress has directed EPA to set national ambient air quality standards for common air pollutants, one of which includes ozone. Under the CAA, these standards must be set at levels that protect public health and welfare with an adequate margin of safety and without consideration of cost. These standards provide information to the American people about whether the air in their community is healthful. Also, the standards present state and local governments with the targets they must meet to achieve clean air.

Moderate ozone nonattainment areas, e.g., St. Louis, fall under the “basic” I/M requirements. However, moderate areas such as St. Louis have the option of implementing an enhanced I/M program. The State of Missouri chose to implement an I/M program containing most of the features of an “enhanced” program in St. Louis as part of its overall plan for achieving emission reductions to attain the 1-hour ozone standard.

II. What Are the I/M Requirements?

Missouri has developed its I/M program not only to meet the requirements of section 182(b)(4) of the CAA but also to meet the reasonable further progress requirements of section 182. Section 182(b)(1) of the CAA requires states with nonattainment areas classified as moderate and above for ozone to develop a plan to reduce areawide volatile organic compound (VOC) emissions from a 1990 baseline by 15 percent. However, the Act prohibits credit toward the 15 percent reduction for correcting deficiencies in previously established basic I/M programs. Missouri decided to pursue an I/M program containing most of the features of an enhanced program to help the state meet the 15 percent plan requirements.

Section 182(a)(2)(B) of the Act directed EPA to publish updated guidance for state I/M programs, taking into consideration findings of EPA's audits and investigations of these programs. Based on these requirements, EPA promulgated I/M regulations on November 5, 1992 (57 FR 52950), and has promulgated subsequent amendments, codified in 40 Code of Federal Regulations (CFR) Part 51, Subpart S.

The Federal I/M rule establishes minimum performance standards for basic and enhanced I/M programs. The I/M regulations include the following: network type and program evaluation; adequate tools and resources; test frequency and convenience; vehicle coverage; test procedures and standards; test equipment; quality control; waivers and compliance via diagnostic inspection; motorist compliance enforcement; motorist compliance enforcement program oversight; quality assurance; enforcement against contractors, stations, and inspectors; data collection; data analysis and reporting; inspector training and licensing or certification; public information and consumer protection; improving repair effectiveness; compliance with recall notices; and on-road testing.

The performance standard for basic I/M programs remains the same as it has been since the initial I/M policy was established in 1978, pursuant to the 1977 CAA Amendments.

Although Missouri has submitted an I/M program containing most of the features of an enhanced program, EPA is proposing to act on the submittal with regard to compliance with the basic I/M requirements in section 182(b)(4) and 40 CFR Part 51, Subpart S, because those are the I/M requirements applicable to St. Louis. However, because the state has chosen to adopt an I/M program containing many features of an enhanced program so that additional emission reductions can be achieved and credit claimed as part of the 15% Rate-Of-Progress Plan and attainment demonstration, EPA's review also includes an analysis of the submission as it relates to requirements for enhanced I/M.

III. What Is the Background on Missouri's Program?

On January 1, 1984, the State of Missouri implemented a basic motor vehicle I/M program in the St. Louis metropolitan area. The St. Louis program is currently decentralized and is jointly administered by the Missouri State Highway Patrol (MSHP) and the Missouri Department of Natural Resources (MDNR).

EPA first audited the St. Louis, Missouri, I/M program in 1985. The audit found that the St. Louis I/M program experienced a significant shortfall in achieving the minimum required VOC emission reductions necessary for an acceptable basic I/M program. As a follow-up to the 1985 audit, EPA conducted a second audit of the St. Louis I/M program in 1987. The follow-up audit showed that the state had not made sufficient progress toward improving the program. Based on the continued low failure rate, unrepresentative reporting on the tampering rate, and an excessive waiver rate, the I/M program again failed to achieve a level of emission reduction consistent with the minimum emission reduction requirement (MERR).

Because the St. Louis I/M program did not meet the MERR, EPA requested the state to submit a corrective action plan (CAP) to correct the St. Louis I/M program deficiencies. As part of the CAP, Missouri implemented computerized BAR-90 (Bureau of Automotive Repair) type analyzers on December 1, 1990.

EPA conducted an audit of the revised program during the week of August 24-28, 1992. Despite improvements following EPA's two previous audits, the St. Louis I/M program still had not shown a level of VOC emission reductions consistent with the MERR for a basic program. The I/M program is an important strategy toward achieving healthful air quality in St. Louis. To maximize progress toward that goal, the State of Missouri and EPA believed the most effective approach would be to implement a centralized, test-only program that includes high-tech testing.

As discussed in EPA's I/M rule, states such as Missouri are required to submit a SIP, including a schedule, analysis, description, legal authority, and adequate evidence of funding and resources for program implementation discussed in 40 CFR 51.372 (a)(1)-(a)(8). The SIP must correct deficiencies in the preexisting program.

In a letter dated November 10, 1999, to Dennis Grams, Regional Administrator, Stephen Mahfood, MDNR Director, submitted a revised I/M program as an amendment to the SIP. This submittal revises the program which Missouri submitted in 1997, and which EPA proposed to conditionally approve in February 1999 (64 FR 9460, February 26, 1999). The submittal included the SIP revision and a number of attachments including the adopted state statute and regulation, the signed I/M contract, a Memorandum of Understanding with the MSHP, an interagency agreement with the Missouri Department of Revenue (MDOR),the I/M budget, modeling input and output files, sample calculations, a table showing the number of vehicles in the I/M program, procedures and specifications, a list of zip codes for the I/M program, the public education program, and an example of the MDOR contract with fee offices. As explained in more detail below, EPA is proposing action on the November 1999 submission.

IV. What Are the Regulatory Requirements and How Does the State's Plan Meet Those Requirements?

As discussed above, sections 182(b)(4), 182(c)(3), 184(b)(1)(A), 187(a)(6), and 187(b)(1) of the Act require that states adopt and implement regulations for a basic or an enhanced I/M program in certain areas. The following sections of this document summarize the requirements of the Federal I/M regulations and address whether the elements of the state's submittal comply with the Federal rule. The specific requirements for I/M plan submissions are in 40 CFR Part 51, Subpart S, and a list of required SIP elements are in 40 CFR 51.372. For a more detailed discussion of EPA's analysis, the reader should consult the technical support document (TSD) which can be obtained by contacting the EPA Regional Office noted above. EPA's decision for approval is based solely on the state's ability to meet the I/M requirements for a basic program.

Applicability—40 CFR 51.350—Part A and B of the SIP

As required in the I/M rule, any area classified as moderate ozone nonattainment and not required to implement an enhanced I/M program shall implement a basic I/M program in any 1990 census-defined, urbanized area within the nonattainment area with a population of 200,000 or more.

The legal authority for the I/M program is contained in the Missouri Revised Statutes, Sections 643.300-643.355 and implementing regulations in Missouri rule 10 CSR 10-5.380. The statute defines the boundaries for the I/M program which include three counties in Missouri (Jefferson, St. Charles, and St. Louis) and St. Louis City.

The state's submittal contains legal authority and regulations necessary to establish the program boundaries for the areas required by EPA's rule to be included in a basic IM program. Thus, this portion of the SIP is approvable. Missouri's program boundaries are also adequate to meet EPA's enhanced I/M program requirements.

In addition, RSMo Section 307.366 provides authority for the state to implement a basic I/M program in Franklin County. The statute was amended during 1999 in Senate Bill 019 to give the residents of Franklin County the option of annual or biennial emission inspection cycle. The Missouri rule 11 CSR 50-2 has not been amended at this time.

The state intends to extend the program to Franklin County and submit appropriate revisions to EPA.

I/M Performance Standard—40 CFR 51.351 and 51.352—Part C of the SIP

Section 51.351 contains the performance standard for enhanced I/M programs, and 40 CFR 51.352 contains the performance standard for basic I/M programs. In accord with the Federal I/M rule, Missouri's I/M program is designed to meet or exceed the minimum basic performance standard, which is expressed as emission levels in areawide average grams per mile (gpm), for certain pollutants. The performance standards are established using local characteristics, such as vehicle mix and local fuel controls, and the following model I/M program parameters: network type, start date, test frequency, model year coverage, vehicle type coverage, exhaust emission test type, emission standards, emission control device inspections, evaporative system function checks (for the enhanced programs I/M performance standard), stringency, waiver rate, compliance rate, and evaluation date. The emission levels achieved by the state's program design are calculated using EPA's most current mobile source emission factor model (MOBILE5b) at the time of submittal. The program meets the high enhanced performance standard for VOCs and NOx for the applicable milestone dates. Therefore, this portion of the SIP meets the performance standard for an high enhanced I/M program which exceeds the requirements for a basic program and is approvable.

Network Type and Program Evaluation—40 CFR 51.353—Part D of the SIP

Basic I/M programs can be centralized, decentralized, or a hybrid at the state's discretion. Missouri has the legal authority for and a contract in place to implement and operate a centralized, test-only network that meets the Federal requirements. By state statute, RSMo Section 643.310, no one operating or employed by an emission inspection station shall repair, diagnose, or maintain motor vehicle emission systems or pollution control devices for compensation of any kind. This portion of the SIP meets the Federal requirements relating to the network type.

A state program is required to demonstrate that it achieves the same emission reductions as the model program described in the Federal rule (40 CFR 51.353) and submit a report every two years starting two years after the initial start date. The SIP shows the random evaluation program will monitor 0.1 percent of 1971 and later model year vehicles. The results will be incorporated into an annual report. The first report will be submitted to EPA two years after the start date and subsequent reports submitted annually by January 1. Therefore, the SIP is approvable with regard to the program evaluation requirements.

Adequate Tools and Resources—40 CFR 51.354—Part E of the SIP

The Federal regulation requires Missouri to provide a description of the resources to be used in the program. The state must provide a detailed budget plan that describes the source of funds for personnel, program administration, program enforcement, and purchase of equipment. In addition, the SIP must include public education and assistance and funding for other necessary functions.

The SIP includes a detailed budget plan that describes the source of funds for personnel, program administration, program enforcement, and purchase of equipment. The SIP also details the number of personnel dedicated to the quality assurance program, data analysis, program administration, enforcement, public education and assistance, and other necessary functions. The SIP meets the Federal requirements for evidence of adequate tools and resources under 40 CFR 51.372 and 51.354.

Test Frequency and Convenience—40 CFR 51.355—Part F of the SIP

The I/M performance standard assumes an annual test frequency; however, other schedules may be approved if the performance standard is achieved. The Missouri legislation provides the legal authority to implement the biennial program. Missouri's I/M regulation provides for a biennial test frequency and provides for enforcement of the biennial test frequency. The Missouri submittal meets the performance standard. This portion of the SIP meets the Federal requirements.

Although not required for a basic program, enhanced I/M programs shall be designed in such a way as to provide convenient service to motorists required to get their vehicles tested. To meet the enhanced requirements, the state must show that the network of stations is sufficient to ensure short waiting times, short driving distances, and regular testing hours. The state has ensured consumer convenience by both state law, rule and contract provisions regarding station location, accessibility, and operation; equipment availability and reliability; and wait time penalties. Therefore, this portion of the SIP meets the test frequency and convenience requirements for an enhanced I/M program which exceed the requirements for a basic program.

Vehicle Coverage—40 CFR 51.356—Part G of the SIP

The performance standards for enhanced I/M programs assume coverage of all 1968 and later model year light-duty vehicles and light-duty trucks (LDT) up to 8500 pounds gross vehicle weight rating and includes vehicles operating on all fuel types. The standard for basic I/M programs does not include LDTs. Other levels of coverage may be approved if the necessary emission reductions are achieved. Missouri's submittal includes: legal authority necessary to implement and enforce program with respect to vehicles required to be covered in a basic and an enhanced program; a detailed description of the number and types of vehicles to be covered by the program; a plan for how those vehicles are identified, including vehicles that are routinely operated in the area but may not be registered in the area; a description of any special exemptions.

In addition, the I/M rule and the implementing contract provide for an alternative to the emissions inspection for up to 40 percent of the motor vehicles. This provision includes the statutory exemption for the most recent two model year vehicles. Other vehicles that are checked and pass a remote-sensing, clean-screening test twice during a year do not have to have the emission inspection. To reach the 40 percent goal, additional remote-sensing, clean-screening testing, additional model year exemption, or the use of vehicle profiling may be used.

Missouri is authorized in its enabling legislation to impose fleet-testing requirements. Fleet testing will be conducted at official test-only stations. The state's plan for testing fleet vehicles is acceptable and meets the requirements of the Federal I/M regulation. EPA is in the process of revising the regulatory requirements applicable to federal fleets. After EPA revises its rule, the state may need to revise its SIP to reflect the Federal revisions.

This level of coverage is approvable as it meets the requirements for an enhanced I/M program which exceed the requirements for a basic program. In addition, Missouri has legal authority to implement fleet-testing requirements and to implement requirements for special exemptions. Therefore, this portion of the SIP is approvable as it meets the requirements for a basic and an enhanced I/M program.

Test Procedures and Standards—40 CFR 51.357—Part H of the SIP

The Federal rule requires Missouri to have written test procedures and pass/fail standards to be established and followed for each model year and vehicle type included in the program. Test procedures and standards are detailed in 40 CFR 51.357 and in the EPA document entitled “IM 240 & Evap Technical Guidance,” EPA-AA-RSPD-IM-98-1, dated August 1998.

The state's I/M regulation, Missouri rule 10 CSR 10-5.380, includes a description of the test procedures for a transient, idle, evaporative system purge; evaporative system pressure testing; on-board diagnostic (OBD) checks, and for a visual emission control device inspection. The checks of the OBD system will begin no later than January 1, 2001. These test procedures conform to EPA-approved test procedures and are approvable. The state I/M regulation establishes pass/fail exhaust standards (hydrocarbons, carbon monoxide, carbon dioxide, and oxides of nitrogen) and test procedures for each applicable model year and vehicle type. The exhaust standards adopted by the state conform to EPA-established standards and are approvable. Initial exhaust standards will be in effect for the first two years and the final standards will start April 5, 2002. This portion of the SIP is approvable.

Test Equipment—40 CFR 51.358—Part I of the SIP

As required by Federal rule, the state submittal contains the written technical specifications for all test equipment to be used in the program. The specifications require the use of computerized test systems. The specifications also include performance features and functional characteristics of the computerized test systems that meet the applicable Federal I/M regulations and are approvable. The SIP meets the requirements of this section.

Quality Control—40 CFR 51.359—Part J of the SIP

The Federal rule requires that quality control measures shall insure that emission measurements equipment is calibrated and maintained properly, and that inspection, calibration records, and control charts are accurately created, recorded, and maintained. In accordance with these requirements, the state's I/M rule and contract address the quality control provisions by providing: quality control standards and criteria for all test equipment; procedures and specifications for the calibration and maintenance of all test equipment; procedures manual for station operations, lane operators, waiver inspector's and station manager's computer handbook, host computer manual, and station installation manual; recordkeeping requirements for equipment maintenance and calibration records, emissions test data, and vehicle repair records; document security measures for inspection result forms, emission inspection certificates of compliance, and emission inspection stickers; and maintenance of an audit trail.

This portion of the submittal complies with the quality control requirements set forth in the Federal I/M regulation and is approvable.

Waivers and Compliance via Diagnostic Inspection—40 CFR 51.360—Part K of the SIP

The Federal I/M regulation allows for the issuance of a waiver, which is a form of compliance with the program requirements, that permits a motorist to comply without meeting the applicable test standards. For enhanced I/M programs, an expenditure of at least $450 in repairs, adjusted annually to reflect the change in the Consumer Price Index (CPI) as compared with the CPI for 1989, is required to qualify for a waiver. For the basic program the minimum expenditure is $75 for pre-1981 vehicles and $200 for 1981 and newer vehicles.

As required, RSMo 643.335 provides legislative authority to issue waivers, set and adjust cost limits, and administer and enforce the waiver system. The Missouri legislation set a $75 waiver cost limit for 1980 and older model year vehicles, a $200 waiver cost limit for 1981 to 1996 model year vehicles, and $450 waiver cost limits for 1997 and newer model year vehicles. The state statute allows these amounts to be adjusted for inflation after January 1, 2001, consistent with an enhanced I/M program. Waivers will be issued for vehicles that do not pass the emission inspection, provided the minimum dollar amount was spent for repairs. The repair record must show that the repair expenditures were not covered by either a recall or manufacturer warranty, and that parts costs and labor costs of recognized technicians total the minimum applicable amount for the model year of the vehicle. However, because Missouri is subject to the basic program requirements, it is only required to meet or exceed the basic I/M requirements of a minimum of $75 for pre-1981 vehicles and $200 for 1981 and newer vehicles. The SIP meets this portion of the regulation and is acceptable.

Motorist Compliance Enforcement—40 CFR 51.361—Part L of the SIP

The Federal regulation requires that compliance will be ensured through the denial of motor vehicle registration in enhanced I/M programs unless an exception for use of an existing alternative is approved. A basic I/M area may use an alternative enforcement mechanism if it demonstrates that the alternative will be as effective as registration denial.

To register a vehicle subject to the I/M requirements, the MDOR by rule, 12 CSR 10-23.170, requires an owner to present an original, current certificate of emissions inspection no older than 60 days. Thus, the enforcement method used is registration denial. The Missouri SIP commits to a compliance rate of 96 percent which was used in the performance standard modeling demonstration and is approvable. The submittal includes detailed information concerning the registration denial enforcement process, the identification of agencies responsible for performing each applicable activity, and a plan for testing fleet vehicles. Therefore, this portion of the SIP is approvable.

Motorist Compliance Enforcement Program Oversight—40 CFR 51.362—Part M of the SIP

The Federal I/M regulation requires that the enforcement program shall be audited regularly and shall follow effective program management practices, including adjustments to improve operation when necessary. The SIP shall include quality control and quality assurance procedures to be used to ensure the effective overall performance of the enforcement system. An information management system shall be established which will characterize, evaluate and enforce the program.

In accord with Federal regulation, Missouri's SIP includes regulations and descriptions of procedural manuals and supporting documents describing how the enforcement program oversight will be quality-controlled and quality-assured and includes the establishment of an information management system. Therefore, this portion of the SIP is approvable.

Quality Assurance—40 CFR 51.363—Part N of the SIP

An ongoing quality assurance program must be implemented to discover, correct, and prevent fraud, waste, and abuse in the program. The program shall include covert and overt performance audits of the inspectors, audits of station and inspector records, equipment audits, and formal training of all state I/M enforcement officials and auditors.

The Missouri submittal includes a quality assurance program that includes quality control and quality assurance procedures describing methods for reviewing inspector records, performing equipment audits, and providing formal training to all state enforcement officials. Performance audits of inspectors and stations will consist of both covert and overt audits. Reports will be provided weekly, monthly, quarterly, and annually. In addition, an annual independent audit by a third party will be performed. The SIP meets the requirements of this section.

Enforcement Against Contractors, Stations, and Inspectors—40 CFR 51.364—Part O of the SIP

The EPA regulation requires that enforcement against stations, contractors, and inspectors shall include swift, sure, effective, and consistent penalties for violation of program requirements. Implementation and operation of Missouri's centralized program is done by one contractor. Enforcement of violations performed by the contractor, station, or contractor employee is through provisions of the contract. The contract includes appropriate penalty provisions and includes recordkeeping and enforcement procedures. The SIP meets the requirements of this section.

Data Collection—40 CFR 51.365—Part P of the SIP

Accurate data collection is essential to the management, evaluation, and enforcement of an I/M program. The Federal I/M regulation requires data to be gathered on each individual test conducted and on the results of the quality control checks of test equipment, as required under 40 CFR 51.359. The SIP provides a commitment to gather, maintain, summarize, and report all of the data requirements and has listed all the data which will be collected. The contract details the functions the contractor will fulfill and specifies the data to be collected and the record storage format. This test data and quality control will be maintained and summarized by MDNR. The SIP meets the requirements of this section.

Data Analysis and Reporting—40 CFR 51.366—Part Q of the SIP

Data analysis and reporting are required to allow for monitoring and evaluating the program by the state and EPA. The Federal I/M regulation requires annual reports to be submitted which provide information and statistics and summarize activities performed for each of the following programs: testing, quality assurance, quality control, and enforcement. These reports are to be submitted by July and will provide statistics during January to December of the previous year. A biennial report will be submitted to EPA that addresses changes in program design, regulations, legal authority, program procedures, and any weaknesses in the program found during the two-year period and how these problems will be or were corrected.

The state has committed to meet all of the data analysis and reporting requirements of this section. The contract specifies the data analysis and reporting the contractor will fulfill. The state commits to submit the reports to EPA as required. The SIP meets the requirements of this section.

Inspector Training and Licensing or Certification—40 CFR 51.367—Part R of the SIP

The Federal I/M regulation requires all inspectors to be formally trained and licensed or certified to perform inspections.

The SIP states that all inspectors are to receive formal training, lists the curricula, sets the minimum examination requirements and states that inspectors must be reexamined every two years. The curricula and certification examinations will be approved by the state. The contractor will conduct the training and certification examination. The SIP meets the requirements of this section.

Public Information and Consumer Protection—40 CFR 51.368—Part S of the SIP

The Federal I/M regulation requires the SIP to include public information and consumer protection programs.

The state has committed to conduct public information and consumer protection programs. The contract specifies and lists the activities the contractor will perform to provide information to the public. It also specifies the minimum amount of funds to be spent during the life of the contract for public information. Both the state and the contractor will aid motorist to obtain warranty covered repairs whenever a vehicle fails a test. The state will also have a Quality Assurance Facility available to motorists so they can challenge the results of their inspection and report fraud and abuse by inspectors. The state has committed to following up and responding to complaints made by the motorist and the public.

A whistle blower protection component is included in the contract. In addition, state employees are protected from repercussions by a whistle blower statute, RSMo Section 105.055. These portions of the SIP submittal meet the requirements of this section.

Improving Repair Effectiveness—40 CFR 51.369—Part T of the SIP

Effective repair work is the key to achieving program goals. The Federal regulation requires states to take steps to ensure that the capability exists in the repair industry to repair vehicles. The SIP must include a description of the technical assistance program; in enhanced areas, a description of the procedures and criteria to be used in meeting the performance monitoring requirements; and a description of the technician training resources available in the community.

Training is required for state-recognized repair technicians and will be provided by non-profit and for-profit schools as well as independent trainers. The state will review and approve courses and set criteria for course curricula and number of class hours. The contractor will provide a telephone information service line to help the repair industry identify and repair emission problems. The state will use a newsletter to provide information and assistance related to the program and vehicle repair.

The motorist must present a completed repair data sheet prior to the vehicle being retested. The sheet will include information on the types of repairs performed, repair costs, and the name of the repair facility. This information together with the results from the retest will be used to evaluate the effectiveness of the repair industry. An annual report will be prepared by the contractor. These portions of the SIP submittal meet the requirements of this section.

Compliance with Recall Notices—40 CFR 51.370—Part U of the SIP

The CAA and Federal regulation require states subject to the enhanced I/M requirements to establish methods to ensure that vehicles that have been recalled for emission-related repairs do receive the repair prior to completing the emission test and/or renewing the vehicle registration.

The Missouri I/M regulation requires owners to comply with emission-related recalls before completing the emission test or renewing the vehicle registration. The contractor will maintain a database of vehicles that have been recalled and can identify them at the test station. Those that have obtained the needed repairs can complete the inspection. The submittal includes a commitment to submit an annual report to EPA that includes the information as required. Therefore, this portion of the SIP meets the requirements for an enhanced I/M program which exceed the requirements for a basic program.

On-Road Testing—40 CFR 51.371—Part V of the SIP

On-road testing is required in enhanced I/M areas and is an option for basic areas. The on-road testing program shall provide information about the emission performance of in-use vehicles. The use of either remote sensing devices (RSD) or roadside pullovers where tailpipe emission testing is done can be used to meet the Federal regulations. The program must include on-road testing of 0.5 percent of the vehicles or 20,000 vehicles, whichever is less in the nonattainment area or the I/M program area. Motorists that have passed an emission test and are found to be high emitters as a result of an on-road test shall be required to pass another emission test.

Enabling authority to implement the on-road testing program and enforce off-cycle inspection and repair requirements is contained in Missouri's legislation. The contractor will use RSD to test 0.5 percent of the vehicles in the I/M program area. The contract contains a description of the program and methods of collecting, analyzing, and reporting data. The state plans to select test limits and perform on-road testing. The on-road testing requirements are optional for basic programs. Therefore, this is not relevant to EPA's proposed action with respect to the basic I/M requirement.

State Implementation Plan Submissions—40 CFR 51.372 and Part 51, Subpart F

States such as Missouri are required to submit a SIP, including a schedule, analysis, description, legal authority, and adequate evidence of funding and resources for program implementation as discussed in EPA's I/M rule. The Federal regulation lists a number of elements that the submittal shall include such as the statutory authority and regulations, specifications and procedures, licensing or certification of station inspectors, date mandatory testing will begin, date full-stringency cutpoints will take effect, an analysis showing the performance standard is met, a description of the geographic coverage of the program, a discussion of the design elements including provisions for Federal facility compliance, and adequate funding. Although the state's submission was not made in the time frames called for in 40 CFR 51.372 (a schedule by November 15, 1992, and a complete program by November 15, 1993), the submittal has addressed the requirements of that section as described above. Missouri's efforts to develop the I/M program are described in more detail in the TSD. The lateness of this submittal does not effect the approvability of the program.

For the I/M rule, MDNR provided a 30-day public comment period and held a public hearing before the Missouri Air Conservation Commission (MACC) on September 23, 1999. The revision was adopted by the MACC on October 28, 1999, and became effective on December 30, 1999. MDNR followed all applicable administrative procedures in proposing and adopting the rule revisions.

In addition, MDNR complied with the requirements of 40 CFR Part 51, Appendix V, for SIP submittals. Missouri has met all the applicable requirements for a SIP revision.

On February 26, 1999, at 64 FR 9460, EPA proposed conditional approval of a prior submittal of Missouri's I/M SIP. As discussed above, Missouri submitted a revised final I/M SIP to EPA on November 12, 1999, which is the subject of today's action. The submission revises and replaces the submission on which EPA based its February 26, 1999, proposal. Commenters on the February 26, 1999, proposal are encouraged to resubmit comments in light of this reproposal. EPA intends to address only those comments which are relevant to this reproposal. Anyone wishing to submit comments should do so during the comment period established by today's notice.

Implementation Deadline—40 CFR 51.373

The SIP commits to starting the I/M program on April 5, 2000. Before testing can begin, a number of tasks, as described in the SIP submittal and the EPA TSD, must be completed. They include the acquisition of the sites, construction of the test stations, purchase and installation of equipment, writing computer programs, writing procedure manuals, and hiring and training employees. Missouri and its contractor are in the process of completing these tasks. Although EPA regulations call for earlier start dates for I/M programs, EPA believes that the start date of April 5, 2000, is as expeditious as practicable and that the program is not deficient because of the April 5, 2000, start date. It is EPA policy that once the start date in the regulations has passed, SIPs are approvable if the program starts as expeditiously as practicable. EPA anticipates that it will not be taking final action on this proposal prior to the projected start date.

V. What is EPA's Conclusion and Proposed Action?

EPA's review of the material submitted indicates that the state has adopted an I/M program in accordance with the requirements of the Act and the Federal rule. EPA is proposing to approve the Missouri SIP revision for the St. Louis I/M program which was submitted on November 12, 1999. EPA solicits comments on this proposed action. Final rulemaking will occur after consideration of any comments. EPA anticipates that it will not take final action until after the April 5, 2000, start date. Therefore, EPA is not proposing conditional approval based on the start date.

Administrative Requirements

Under Executive Order 12866 (58 FR 51735, October 4, 1993), this proposed action is not a “significant regulatory action” and therefore is not subject to review by the Office of Management and Budget. This proposed action merely approves state law as meeting Federal requirements and imposes no additional requirements beyond those imposed by state law. Accordingly, the Administrator certifies that this proposed rule will not have a significant economic impact on a substantial number of small entities under the Regulatory Flexibility Act (5 U.S.C. 601 et seq.). Because this rule proposes to approve preexisting requirements under state law and does not impose any additional enforceable duty beyond that required by state law, it does not contain any unfunded mandate or significantly or uniquely affect small governments, as described in the Unfunded Mandates Reform Act of 1995 (Pub. L. 104-4). For the same reason, this proposed rule also does not significantly or uniquely affect the communities of tribal governments, as specified by Executive Order 13084 (63 FR 27655, May 10, 1998). This proposed rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This proposed rule also is not subject to Executive Order 13045 (62 FR 19885, April 23, 1997), because it is not economically significant.

In reviewing SIP submissions, EPA's role is to approve state choices, provided that they meet the criteria of the CAA. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This proposed rule does not impose an information collection burden under the provisions of the Paperwork Reduction Act of 1995 (44 U.S.C. 3501 et seq.).

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Dated: February 7, 2000.
Dennis Grams,
Regional Administrator, Region 7.

[FR Doc. 00-3473 Filed 2-16-00; 8:45 am]

BILLING CODE 6560-50-U